DEPARTMENT OF HEALTH AND HUMAN SERVICES

Administration for Children and Families

Submission for OMB Review; Child Support Annual Data Report (OCSE-157) (OMB No.: 0970-0177)

AGENCY: Office of Child Support Enforcement; Administration for Children and Families; HHS.

ACTION: Request for public comment.

SUMMARY: The Office of Child Support Enforcement (OCSE), Administration for Children and Families (ACF), is requesting approval of a 3-year extension of the Child Support Annual Data Report and Instructions (OCSE-157). The current Office of Management and Budget (OMB) approval expires on March 31, 2022. OCSE made minor revisions to the form's instructions.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. All emailed requests should be identified by the title of the information collection.

SUPPLEMENTARY INFORMATION: Description: Each year, states are required to provide OCSE with their child support information pertaining to case inventory, performance status, and accomplishments in the following areas: Paternity establishment, services requested and provided, medical support, collections due and distributed, staff, program expenditures, non-cooperation and good cause, and administrative enforcement. The information collected from the Child Support Annual Data Report (OCSE-157) enables OCSE to (1) report child support enforcement activities to Congress as required by law, (2) calculate states' incentive measures for performance and assess performance indicators utilized in the program, and (3) assist OCSE in monitoring and evaluating state child support programs.

Respondents: State and Local Child Support Agencies.

Annual Burden Estimates
Collection instrument | Total number of annual respondents | Total number of annual responses per respondent | Average annual burden hour per response | Annual burden hours
OCSE-157 Report and Instructions | 54 | 1 | 7 | 378

Estimated Total Annual Burden Hours: 378.

Authority: 42 U.S.C. 652(a) and (g), and 669.

Mary B. Jones,
ACF/OPRE Certifying Officer.

[FR Doc. 2022-00917 Filed 1-18-22; 8:45 am]

BILLING CODE 4184-41-P